DEPARTMENT OF TRANSPORTATION

Federal Aviation Administration

14 CFR Part 39

[Docket No. FAA-2005-20748; Directorate Identifier 2005-NM-063-AD; Amendment 39-14031; AD 2005-07-07]

RIN 2120-AA64

Airworthiness Directives; Airbus Model A310 Series Airplanes; and Model A300 B4-600, B4-600R, and F4-600R Series Airplanes, and Model C4 605R Variant F Airplanes (Collectively Called A300-600)

AGENCY: Federal Aviation Administration (FAA), Department of Transportation (DOT).

ACTION: Final rule; request for comments.

SUMMARY: The FAA is adopting a new airworthiness directive (AD) for certain Airbus Model A310 series airplanes; and Model A300 B4-600, B4-600R, and F4-600R series airplanes, and Model C4 605R Variant F airplanes (collectively called A300-600). This AD requires one-time general visual, detailed, and tap test inspections for discrepancies in the structural integrity of the rudder and its attachments, and corrective actions if necessary. This AD is prompted by a report that, during cruise, a Model A310 series airplane lost most of its rudder, which was made from composite-fiber-reinforced plastic. Investigation revealed that most of the rudder, including the front spar portion above the three servo control actuators was missing. We are issuing this AD to prevent detachment of the rudder from the airplane, which could degrade airplane handling qualities and result in reduced controllability of the airplane.

DATES: Effective March 28, 2005.

The incorporation by reference of certain publications listed in the AD is approved by the Director of the Federal Register as of March 28, 2005.

We must receive comments on this AD by May 27, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-20748; the directorate identifier for this docket is 2005-NM-063-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION: The Direction Générale de l'Aviation Civile (DGAC), which is the airworthiness authority for France, notified us that an unsafe condition may exist on certain Airbus Model A310 series airplanes; and Model A300 B4-600, B4-600R, and F4-600R series airplanes, and Model C4 605R Variant F airplanes (collectively called A300-600). The DGAC advises that, during cruise, a Model A310 series airplane lost most of its rudder, which was made from composite-fiber-reinforced plastic (CFRP). Investigation revealed that most of the rudder, including the front spar portion above the three servo control actuators was missing. The cause of this rudder loss is under investigation. This condition, if not corrected, could result in detachment of the rudder from the airplane, which could degrade airplane handling qualities and result in reduced controllability of the airplane.

Similar Airplane Models

A rudder having the same part number as that installed on Model A310 series airplanes also is installed on Model A300-600 series airplanes. Therefore, the latter airplanes are also subject to the identified unsafe condition and are included in the applicability of the U.S. AD.

Further, a rudder having the same part number is installed on early versions of Model A330 and A340 series airplanes. However, we have confirmed that the affected rudder is not installed on any Model A330 series airplanes of U.S. registry. Additionally, there are no Model A340 series airplanes on the U.S. Register.

Relevant Service Information

Airbus has issued All Operators Telex (AOT) A310A55-2035 (for A310 series airplanes) and AOT A300-600 55A6035 (for A300-600 series airplanes), both dated March 16, 2005. The AOTs describe procedures for one-time general visual, detailed visual, and tap test inspections for damage in the structural integrity of the rudder and its attachments. The inspection procedures include a general visual inspection for damage of the rear spar aft face of the vertical stabilizer, including the trailing edge structure; a detailed visual inspection of the rudder hinge arms and support fittings, the actuator support fittings and the rudder hinge fittings; and a tap test inspection for damage of the rudder side panels of the leading edge from the bottom to top and the forward trailing edge connection from the bottom up to hinge No. 5 around the hoisting points and certain additional areas. The AOTs also specify contacting the manufacturer for certain repair conditions and reporting of inspection results. The DGAC mandated the service information and issued French airworthiness directive UF-2005-048, dated March 18, 2005, to ensure the continued airworthiness of these airplanes in France.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent detachment of the rudder from the airplane, which could degrade airplane handling qualities and result in reduced controllability of the airplane. This AD requires accomplishing the actions specified in the service information described previously, except as discussed under “Differences Between the AD and the Service Information.” The AD also requires sending the inspection results to Airbus, regardless of the findings.

Differences Among the AD, French Airworthiness Directive and Service Information

Although the French airworthiness directive and the AOTs specify that operators may contact the manufacturer for certain repair conditions, this AD requires operators to repair those conditions per a method approved by either the FAA or the DGAC (or its delegated agent). In light of the type of repair that would be required to address the unsafe condition, and consistent with existing bilateral airworthiness agreements, we have determined that, for this AD, a repair approved by either the FAA or the DGAC (or its delegated agent) would be acceptable for compliance with this AD.

The French airworthiness directive and AOTs specify inspecting the rudder attachments and the rudder side panels for damage and reporting findings to the manufacturer, but there is no definition of the type of damage to inspect for or findings to report. This AD requires inspecting for discrepancies in the structural integrity of the rudder and its attachments. For the general visual and detailed inspections, the discrepancies to inspect for and report include corrosion, cracks, abrasion, scratches, and dents. For the tap test, the discrepancies to inspect for and report include delamination in the outer CFRP layers and debonding between the outer CFRP layers and the honeycomb core.

Clarification of Certain Sections in Airbus A310 and A300-600 Structural Repair Manuals

Although the French airworthiness directive and AOTs do not identify the sections in the SRMs that specify damage limits for the rudder attachments and the rudder side panels, those sections are specified in Note 3 of this AD.

Clarification of Inspection Terminology/AOT Number

In this AD, the “detailed visual inspection” specified in the AOTs is referred to as a “detailed inspection.” We have included the definition for a detailed inspection in a note in the AD.

The French airworthiness directive identifies the AOT number for A310 series airplanes as A310 55A2035; however, the number is transposed in the AOT and identified as A310A55-2035. This AD will identify the AOT number as A310A55-2035 to adhere to the Office of the Federal Register guidelines for materials incorporated by reference.

Interim Action

This is considered to be interim action. The inspection report that is required by this AD will enable the FAA, DGAC, and the manufacturer to obtain better insight into the potential unsafe condition, and eventually to develop final action to address it, if necessary. If final action is identified, the FAA may consider further rulemaking.

FAA's Determination of the Effective Date

An unsafe condition exists that requires the immediate adoption of this AD; therefore, providing notice and opportunity for public comment before the AD is issued is impracticable, and good cause exists to make this AD effective upon publication in the Federal Register.

Comments Invited

This AD is a final rule that involves requirements that affect flight safety and was not preceded by notice and an opportunity for public comment; however, we invite you to submit any relevant written data, views, or arguments regarding this AD. Send your comments to an address listed under ADDRESSES. Include “Docket No. FAA-2005-20748; Directorate Identifier 2005-NM-063-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-07-07 Airbus: Amendment 39-14031. Docket No. FAA-2005-20748; Directorate Identifier 2005-NM-063-AD.

Effective Date

(a) This AD becomes effective March 28, 2005.

Affected ADs

(b) None.

Applicability

(c) This AD applies to Airbus Model A310 Series Airplanes; and Model A300 B4-600, B4-600R, and F4-600R series airplanes, and Model C4 605R Variant F airplanes (collectively called A300-600); certificated in any category; equipped with any composite-fiber-reinforced plastic (CFRP) rudder with part number (P/N) A55471500 series installed.

Unsafe Condition

(d) This AD was prompted by a report that, during cruise, a Model A310 series airplane lost most of its rudder, which was made from CFRP. The FAA is issuing this AD to prevent detachment of the rudder from the airplane, which could degrade airplane handling qualities and result in reduced controllability of the airplane.

Compliance

(e) You are responsible for having the actions required by this AD performed within the compliance times specified, unless the actions have already been done.

One-Time Inspections

(f) Within 550 flight hours or 3 months after the effective date of this AD, whichever is first: Perform one-time general visual, detailed, and tap test inspections for discrepancies in the structural integrity of the rudder and its attachments, in accordance with Airbus All Operators Telex (AOT) A310A55-2035 (for A310 series airplanes) and Airbus AOT A300-600 55A6035 (for A300-600 series airplanes), both dated March 16, 2005. For the one-time general visual and detailed inspections, discrepancies include corrosion, cracks, abrasion, scratches, and dents. For the tap test, discrepancies include delamination in the outer CFRP layers and debonding between the outer CFRP layers and the honeycomb core.

Note 1: For the purposes of this AD, a general visual inspection is: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Actions Accomplished Previously

(g) Inspections accomplished within the last 18 months before the effective date of this AD in accordance with section 4.2.2 of Airbus AOTs A310A55-2035 and A300-600 55A6035, both dated March 16, 2005; are considered acceptable for compliance with the corresponding actions specified in paragraph (f) of this AD, after the inspection results are reported to Airbus as required in paragraph (i) of this AD.

Corrective Actions

(h) If any discrepancy of the rudder attachments that exceeds the limits specified in the Airbus A310 or A300-600 Structural Repair Manual (SRM), or any discrepancy of the rudder side panels is found during any inspection required by paragraph (f) of this AD: Before further flight, repair or otherwise disposition, in accordance with a method approved by the Manager, International Branch, ANM-116, FAA, Transport Airplane Directorate; or the Direction Générale de l'Aviation Civile (DGAC) (or its delegated agent).

Note 3: Limits for allowable damage and rework for the rudder attachment fittings are specified in Sections 55-40-00, 55-36-42, 55-30-00, and 55-46-11 of the Airbus A310 and A300-600 SRM.

Reporting Requirement

(i) Within 10 days after accomplishing all the inspections required by paragraph (f) of this AD: Submit Airbus Technical Disposition 943.0267/05, Issue A, “CFRP Rudder—Inspection Reporting Sheets” with the inspection results (both positive and negative findings) to Airbus Customer Service Engineering, Mr. X. Jolivet, SEE83, 1 Rond Point Maurice Bellonte, 31707 Blagnac Cedex France; fax (+33) 5 61 93 36 14. Under the provisions of the Paperwork Reduction Act of 1980 (44 U.S.C. 3501 et seq.), the Office of Management and Budget (OMB) has approved the information collection requirements contained in this AD and has assigned OMB Control Number 2120-0056.

Note 4: The reporting sheets referenced in paragraph (j) of this AD will be provided by Airbus, as specified in Section 2., of Airbus AOTs A310A55-2035 and A300-600 55A6035, both dated March 16, 2005.

Parts Installation

(j) As of the effective date of this AD, no person may install on any airplane a CFRP rudder, P/N A55471500 series, unless the requirements specified in paragraphs (f), (h) and (i) of this AD have been accomplished.

Alternative Methods of Compliance (AMOCs)

(k) The Manager, International Branch, ANM-116, has the authority to approve AMOCs for this AD, if requested in accordance with the procedures found in 14 CFR 39.19.

Related Information

(l) French airworthiness directive UF-2005-048, dated March 18, 2005, also addresses the subject of this AD.

Material Incorporated by Reference

(m) You must use Airbus All Operators Telex A310A55-2035, dated March 16, 2005; and Airbus All Operators Telex A300-600 55A6035, dated March 16, 2005; as applicable; to perform the actions that are required by this AD, unless the AD specifies otherwise. The Director of the Federal Register approves the incorporation by reference of these documents in accordance with 5 U.S.C. 552(a) and 1 CFR part 51. For copies of the service information, contact Airbus, 1 Rond Point Maurice Bellonte, 31707 Blagnac Cedex, France. To view the AD docket go to the Docket Management Facility, U.S. Department of Transportation, 400 Seventh Street, SW., room PL-401, Nassif Building, Washington, DC. To review copies of the service information, go to the National Archives and Records Administration (NARA). For information on the availability of this material at NARA, call (202) 741-6030, or go to http://www.archives.gov/federal_register/code_of_federal_regulations/ibr_locations.html.

Issued in Renton, Washington, on March 23, 2005.
Ali Bahrami,
Manager, Transport Airplane Directorate, Aircraft Certification Service.

[FR Doc. 05-6106 Filed 3-25-05; 8:45 am]

BILLING CODE 4910-13-P